DEPARTMENT OF THE TREASURY

Privacy Act of 1974; System of Records

AGENCY: Bureau of Engraving and Printing (BEP), Department of the Treasury.

ACTION: Notice of a modified system of records.

SUMMARY: In accordance with the Privacy Act of 1974, the Department of the Treasury (“Treasury” or the “Department”), Bureau of Engraving and Printing (“BEP”) proposes to modify an existing system of records titled, “Department of the Treasury/Bureau of Engraving and Printing-.048—Electronic Police Operations Command Reporting System (EPOCRS)” that will now be titled “Department of the Treasury, Bureau of Engraving and Printing (BEP)-.048—Police Operations Command Reporting System (POCRS).”. This system of records contains records related to investigations of criminal and/or administrative incidents, traffic accidents, and/or general concerns and complaints regarding BEP property and persons for which the BEP Police maintains jurisdiction.

DATES: Submit comments on or before August 31, 2018. This modified system and the routine uses will be applicable August 31, 2018 unless BEP receives comments and determines that changes to the system of records notice are necessary.

ADDRESSES: Comments should be sent to Leslie J. Rivera Pagán, Attorney/Advisor-Privacy Act Officer, Office of the Chief Counsel, U.S. Department of the Treasury, Bureau of Engraving and Printing, Room 419A, 14th & C Streets SW, Washington, DC 20228, Attention: Revisions to SORN Treasury/BEP .048-EPOCRS, or fax to (202) 874-2951, or email to Leslie.Rivera-Pagan@bep.gov. For faxes and emails, please place “Revisions to SORN Treasury/BEP .048-EPOCRS” in the subject line. You may also submit comments to the Federal eRulemaking Portal electronically at http://www.regulations.gov. Comments will be made available for public inspection upon written request. The BEP will make such comments available for public inspection and copying at the above listed location, on official business days between 9:00 a.m. and 5:00 p.m. eastern time. Persons wishing to review the comments must request an appointment by telephoning (202) 874-2500. All comments received, including attachments and other supporting documents, are part of the public record and subject to public disclosure. You should submit only information that you wish to make available publicly. All comments received will be posted without change to http://www.regulations.gov, including any personal information provided.

FOR FURTHER INFORMATION CONTACT: For Privacy Act questions please contact: Leslie J. Rivera Pagán, Attorney/Advisor-Privacy Act Officer at (202) 874-2500 or Leslie.Rivera-Pagan@bep.gov. For general privacy matters please contact: Anthony Johnson at (202) 874-2258 or Privacy@bep.gov.

SUPPLEMENTARY INFORMATION: In accordance with the Privacy Act of 1974, 5 U.S.C. 552a, the Department of the Treasury (“Treasury” or the “Department”), Bureau of Engraving and Printing (“BEP”) proposes to modify an existing system of records titled, “Department of the Treasury, Bureau of Engraving and Printing (BEP) .048—Electronic Police Operations Command Reporting System (EPOCRS).”

The mission of the BEP is to develop and produce United States currency notes, trusted worldwide. BEP prints billions of U.S. currency notes—referred to as Federal Reserve notes—each year for delivery to the Federal Reserve System. Due to the sensitive nature of currency production operations, the BEP is generally closed to the public. Limited areas of the BEP, however, are accessible for public tours during certain authorized dates and times. Any individual entering, exiting, or on the BEP's property is subject to the rules of conduct as prescribed within the regulations, and violations may result in criminal prosecution. The BEP has a high degree of security due to producing Federal Reserve notes and individuals are placed on notice that they are subject to search and inspection of their person, personal items and property while entering, exiting, and on the property.

The BEP's Office of Security, Police Operations Division at the District of Columbia Facility (“DCF”) and the Office of Manufacturing Support, Security Division, Police Services Branch at the Western Currency Facility (“WCF”) are collectively known as the BEP Police. The BEP Police use the Police Operations Command Reporting System as a robust management and reporting system for investigations of criminal and/or administrative incidents, traffic accidents, and/or general concerns and complaints regarding BEP property and persons for which the BEP Police shares jurisdiction through a cooperative agreement, memorandum of understanding, or other arrangements BEP has with other federal, state, or local agencies or law enforcement offices or operations. The system increases efficiency and provides accountability by streamlining procedures and automating some paper forms that may contain personally identifiable information (PII) of individuals including members of the public visiting BEP at DCF and WCF.

Under the existing system of records, BEP Police may collect limited PII associated with investigations pertaining to BEP property and persons under BEP's Police jurisdiction. The BEP Police generates and manages its records primarily in paper form. The BEP Police is initiating comprehensive administrative improvements through an automated data system that facilitates the transition from paper records to an electronic system. This system is designed to create an automated web-based repository for forms, logs, and records associated with records generated and managed by the BEP Police. In addition, the system allows authorized BEP Police to: (1) Query information; (2) prepare management reports; (3) retrieve the status of a particular investigation; (4) electronically process PII, which may include Social Security numbers (SSNs); and (5) collect PII in automated forms such as: (1) Voluntary statements from individuals or witnesses, (2) evidence and/or property in BEP custody, (3) traffic accident reports, (4) offense/incident reports, (5) consent for search of BEP employees or contractors, and (6) security violations by BEP employees or contractors.

The changes to the system or records include: (1) Renaming all headings and the system title to “Department of the Treasury, Bureau of Engraving and Printing (BEP) .048—Police Operations Command Reporting System”; (2) clarifying the categories of individuals covered by the system; (3) adding categories of records maintained in the system, including Social Security numbers (SSNs), if provided voluntarily; (4) clarifying agency's existing applicable authorities for maintenance of the system; (5) clarifying the purpose of the system; (6) clarifying the applicable records retention schedule citation; (7) adding contractors and federal, state, local, and foreign agencies as a record source category; (8) adding routine uses to share information with other (a) federal agencies or federal entities as required by OMB Memorandum 17-12, “Preparing for and Responding to a Breach of Personally Identifiable Information,” dated January 3, 2017, to assist BEP in responding to a suspected or confirmed breach or prevent, minimize, or remedy the risk of harm to the requesters, BEP, the Federal Government, or national security, and (b) federal, state, local, or other public authority agency which has requested information relevant or necessary to the requesting authority's hiring or retention of an individual, or issuance of a security clearance, license, contract, grant, or other benefit; (9) expanding the policies and practices for retrieval of records to include retrieval by Social Security number (SSN), if provided voluntarily to the BEP; and (10) eliminating the records management inspections routine uses already permitted under the Privacy Act of 1974.

Other changes throughout the document are editorial in nature and consist primarily of correction to citations and updates to point of contact and address.

BEP has provided a report of this system of records to the Committee on Oversight and Government Reform of the House of Representatives, the Committee on Homeland Security and Governmental Affairs of the Senate, and the Office of Management and Budget (OMB), pursuant to 5 U.S.C. 552a(r) and OMB Circular A-108, “Federal Agency Responsibilities for Review, Reporting, and Publication under the Privacy Act,” dated December 23, 2016.

For the reasons set forth in the preamble, BEP proposes to modify its system of records entitled “Department of the Treasury, Bureau of Engraving and Printing (BEP) -.048—Electronic Police Operations Command Reporting System (EPOCRS)” as follows:

Dated: July 26, 2018.
Ryan Law,
Deputy Assistant Secretary for Privacy, Transparency, and Records.

SYSTEM NAME AND NUMBER

Department of the Treasury, Bureau of Engraving and Printing (BEP) -.048—Police Operations Command Reporting System of Records (POCRS).

SECURITY CLASSIFICATION:

Unclassified.

SYSTEM LOCATION:

Records are maintained at the Office of Security, Police Operations Division, Bureau of Engraving and Printing, District of Columbia Facility, 14th & C Streets SW, Washington, DC 20228, and the Office of Manufacturing Support, Security Division, Police Services Branch, Bureau of Engraving and Printing, Western Currency Facility, 9000 Blue Mound Road, Fort Worth, TX 76131.

SYSTEM MANAGER(S):

Chief, Office of Security, Police Operations Division, Bureau of Engraving and Printing, District of Columbia Facility, 14th & C Streets SW, Washington, DC 20228, 1-877-874-4114, (202) 874-4000, and Security Division Manager, Office of Manufacturing Support, Security Division, Police Services Branch Western Currency Facility, 9000 Blue Mound Road, Fort Worth, TX 76131, 1-866-865-1194, (817) 231-4000.

AUTHORITY FOR MAINTENANCE OF THE SYSTEM:

5 U.S.C. 301; 31 U.S.C. 321, 5141; 40 U.S.C. 1315; Executive Order 9397, Numbering System for Federal Accounts Relating to Individual Persons, 8 FR 16095 (November 22, 1943) as amended by Executive Order 13478, 73 FR 70239 (November 18, 2008); 31 CFR part 605; and Treasury Order 101-33, Delegation of Authority to the Directors, Bureau of Engraving and Printing and United States Mint, to Appoint Special Police Officers, dated March 30, 2010, reaffirmed May 1, 2017.

PURPOSE(S) OF THE SYSTEM:

The purpose of the system is to establish a database for records regarding investigations of criminal and/or administrative incidents, traffic accidents, and/or general concerns and complaints regarding BEP property and persons under BEP's Police jurisdiction.

CATEGORIES OF INDIVIDUALS COVERED BY THE SYSTEM:

Employees, contractors, and members of the public, such as service company employees and visitors involved or that have provided information in a criminal and/or administrative incident(s), traffic accident(s), and/or general concern(s) and complaint(s) regarding BEP property and persons under BEP's Police jurisdiction.

CATEGORIES OF RECORDS IN THE SYSTEM:

1. Identification and Contact Information for Involved Individuals:

• Type of Person (Victim, Suspect, Witness, or Representative);

• Full Name;

• Date of Birth;

• Place of Birth;

• Age;

• Social Security number (SSN) (provided voluntarily);

• Gender;

• Physical Description (Race, Height, Weight, Hair Color, Eye Color, Scars, Marks and Tattoos and location);

• Description of clothing worn (i.e., hat, coat, shirt, pants, skirt, shoes, glasses etc.);

• Address (Number, Street, Apartment Number, City, State, Country, and Zip Code);

• Telephone number (Home, Business);

• Injured (Yes or No);

• Passport Information (Number, Country of Issue, Expiration Date); and

• BEP Security Access Control System (SACS) Badge Number.

2. Incident Information:

• Type of Report;

• Report Number/Case Number;

• Narrative Description of Incident;

• Date and Time of Call;

• Incident Type;

• Incident Sub-Type;

• Location (Name, Address, Building, Room, Floor, Other);

• Jurisdiction;

• Dispatched Officer's Name;

• Dispatch Date/Time;

• Arrival Date/Time;

• Date/Time Cleared;

• Date and Time Occurred;

• Day of Week Occurred;

• Date and Time Reported;

• Day of Week Reported;

• Disposition Condition;

• Email Recipient (BEP police);

• Email Address (BEP police);

• Active Directory Group;

• Comments;

• Mode of information; and

• National Crime Information Center (NCIC)/Washington Area Law Enforcement System (WALES) Check.

3. Suspect Status Information:

• Suspect Status/Disposition: Not Identified; Government Employee; Government Contractor; Member of the Public; Arrested/Not Arrested; Citation number issued; Employee/Contract Security Violation number issued; and Released;

• Narrative;

• Assigned By;

• Assigned Date;

• Comments;

• Reporting Official's Name;

• Reporting Official's SACS Badge Number;

• Reporting Official's Signature (Paper Form only);

• Date of Signature;

• Supervisor's Name;

• Supervisor's Signature (Paper form only);

• Date of Signature;

• Recommendations (Open Investigation, Process Citation, Issue BEP Security Violation, No Further Action);

• Investigation Opened (Yes/No);

• Case Number;

• Referred to (Text Field);

• Closed (Text Field);

• Suspect Developed/Arrested (Yes/No);

• Property Recovered (Yes/No);

• Court Date (Yes/No) Text Field; and

• Entered NCIC (Yes/No, N/A).

4. Traffic Accident/Incident Report Information:

A. Vehicle Driver Information:

• Full Name of Driver;

• Home Address (City, State, Country, Zip Code);

• Home Telephone number;

• Driver's License number, Permit Type (Operator/Chauffer/Commercial Driver's License (CDL) and Issuing State;

• Expiration Date;

• Status (Active, Revoked, Suspended, No Operator's License on File);

• Name, Gender, Age, and Contact Information for any Vehicle Passengers or Pedestrians Impacted by the Accident/Incident;

• Name and Contact Information for any Witnesses (Voluntary);

• Outcome of Accident (Injuries, Death, Pedestrian Impact;

• Violation charged (if applicable); and

• Comment Field for Final Disposition.

B. Information about Vehicle, Owner, Description, Licensing, and Insurance:

• Owner's Full Name;

• Owner's Address (City, State, Country, Zip Code);

• Vehicle Description (Make, Model, Year, Color);

• Registration (Owner's Driver's License Number, Year, State, Vehicle Tag number, and Vehicle Identification number (VIN));

• Insurance Information (Name, Address, and Telephone Number of Insurance Carrier);

• Insurance Policy Number; and

• Expiration Date of Insurance Policy.

C. Information about the Accident and the Investigating Officer(s) Involved:

• Organization of the Investigating Officer(s);

• Officer(s) badge number;

• Case number;

• Number of vehicles involved;

• Location of accident (City, County, State);

• Time and Date of Accident;

• Accident Type, Degree, and Cause (Hit and Run, etc.);

• Physical Description of Driving/Weather Conditions;

• Post-Accident Vehicle Description (Damage location(s));

• Disposition of the Vehicle and Current Location; and

• Signatures of Investigating/Approving Officer(s).

5. Information about Property and/or Evidence:

• Description of Item;

• Item number;

• Brand Name;

• Model;

• Serial Number;

• Ownership (Government or Personal);

• Quantity;

• Color;

• Estimated Value;

• Property was (Secured Unsecured);

• Status of Property (Missing, Recovered, or Partially Recovered);

• Evidence Seized (Yes/No);

• Evidence Tag number;

• Type of Evidence Seized;

• Evidence Storage Location;

• Case Number;

• Other Agency Case Number;

• Receiving Component;

• Address of Component;

• Location where property or evidence was obtained/seized;

• Person Evidence Received From (Full Name and Title) and whether they are the owner;

• Reason Obtained;

• Date/Time Obtained;

• Quantity;

• Full Description Text;

• Purpose for Change of Custody (if applicable);

• Comments;

• Reporting Official Comments;

• Final Disposition: Released to Owner/Other; Destroyed; Other; Name of Disposition Authority; and Date of Signature; and

• Name and Signature of Destroyer of Evidence and any Witness; Office/Agency of Witness.

6. Information about Other Agency Involvement:

• Name of Other Involved Agencies;

• Name, Rank or Grade of Other Agency Involved Individual (if applicable);

• Notified Time; and

• Arrived Time.

7. Information Obtained from Voluntary Statements:

• Full Name;

• Organization/Agency/Section/Office;

• Social Security number (SSN) (Voluntary);

• Home and Business Address;

• Home and Business Telephone number;

• Gender;

• Age;

• Race;

• BEP Security Access Card (SAC) number;

• Voluntary Statement;

• Signature;

• Name, Title, Business Telephone number, and Organization of Individual taking the Statement;

• Report number; and

• Date and Time Voluntary Statement Obtained.

In addition to the data obtained above, the BEP Police are able to provide additional comments via a free text field to expound on any listed data element.

RECORD SOURCE CATEGORIES:

Records are obtained from (1) employees and contractors, (2) individuals involved in a criminal and/or administrative incident, traffic accident, or general complaint under BEP's Police jurisdiction, (3) authorized officials or legal representatives of such individuals, and (4) federal, state, local, or foreign agencies that provide information or access to investigatory databases.

ROUTINE USES OF RECORDS MAINTAINED IN THE SYSTEM, INCLUDING CATEGORIES OF USERS AND THE PURPOSES OF SUCH USES:

In addition to those disclosures generally permitted under the Privacy Act, 5 U.S.C. 552a(b), records or portions thereof maintained in this system may be disclosed outside Treasury/BEP as a routine use pursuant to 5 U.S.C. 552a(b)(3) as follows:

(1) To appropriate federal, state, local, or foreign public authority agencies responsible for investigating or prosecuting the violations of, or for enforcing, or implementing, a statute, rule, regulation, order, or license, where the disclosing agency becomes aware of a potential violation of civil, administrative, or criminal law, or regulation;

(2) To federal, state, local, or other public authority agency which has requested information relevant or necessary to the requesting authority's hiring or retention of an individual, or issuance of a security clearance, license, contract, grant, or other benefit;

(3) To a court, adjudicative body, or other administrative body before which BEP is authorized to appear when (a) the agency, (b) any employee of the agency in his or her official capacity, or (c) any employee of the agency in his or her individual capacity where the U.S. Department of Justice (“DOJ”) or the agency has agreed to represent the employee, or (d) the United States, when the agency determines that litigation is likely to affect the agency, is a party to litigation or has an interest in such litigation, and the use of such records by the agency is deemed to be relevant and necessary to the litigation or administrative proceeding and not otherwise privileged;

(4) To a congressional office in response to an inquiry made at the request of the individual to whom the record pertains;

(5) To the U. S. Department of Justice (“DOJ”) for the purpose of representing or providing legal advice to the BEP in a proceeding before a court, adjudicative body, or other administrative body before which the BEP is authorized to appear, where the BEP deems DOJ's use of such information relevant and necessary to the litigation, and when such proceeding involves:

(a) The BEP or any component of it;

(b) Any employee of the BEP in his or her official capacity;

(c) Any employee of the BEP in his or her individual capacity where DOJ has agreed to represent the employee; or

(d) The Government of the United States, when the BEP determines that litigation is likely to affect the BEP and the use of such records by the DOJ is deemed by the DOJ to be relevant and necessary to the litigation provided that the disclosure is compatible with the purpose for which records were collected;

(6) To appropriate agencies, entities, and persons when (1) the Department and/or BEP suspects or has confirmed that there has been a breach of the system of records; (2) the Department and/or BEP has determined that as a result of the suspected or confirmed breach there is a risk of harm to individuals, the Department and/or BEP (including its information systems, programs, and operations), the Federal Government, or national security; and (3) the disclosure made to such agencies, entities, and persons is reasonably necessary to assist in connection with the Department and/or BEP efforts to respond to the suspected or confirmed breach or to prevent, minimize, or remedy such harm; and

(7) To another federal agency or federal entity, when the Department and/or BEP determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

Records in this system are stored electronically or on paper in secure facilities in a locked drawer behind a locked door.

POLICIES AND PRACTICES FOR RETRIEVAL OF RECORDS:

Records may be retrieved by name of the individual(s) involved in the incident, date(s) of the incident, Social Security number (SSN) if provided voluntarily, and by system generated report numbers.

POLICIES AND PRACTICES FOR RETENTION AND DISPOSAL OF RECORDS:

Records are managed in accordance with National Archives and Records Administration approved BEP Records Retention Schedule N1-318-04-8 Security Systems and Services.

ADMINISTRATIVE, TECHNICAL, AND PHYSICAL SAFEGUARDS:

Access is limited to BEP personnel approved by the Office of Security, Police Operations Division at the District of Columbia Facility (“DCF”) and the Office of Manufacturing Support, Security Division, Police Services Branch at the Western Currency Facility (“WCF”). There are both logical and physical controls in place to protect access to the data. Records are maintained in locked file cabinets. Only authorized BEP personnel have access to the area that houses the file cabinets. Rooms are locked when not manned by cleared personnel.

RECORD ACCESS PROCEDURES:

Individuals seeking to determine whether this system of records contains their information should address written inquiries in accordance with 31 CFR part 1 to the Disclosure Officer, Bureau of Engraving and Printing, Office of the Chief Counsel—FOIA and Transparency Services, 14th & C Streets SW, Room 419-A, Washington, DC 20228.

CONTESTING RECORD PROCEDURES:

See “Record Access Procedures” above.

NOTIFICATION PROCEDURES:

See “Record Access Procedures” above.

EXEMPTIONS PROMULGATED FOR THE SYSTEM:

None.

HISTORY:

Notice of this system of records was last published in full in the Federal Register on April 16, 2013 (78 FR 22619) as the Department of the Treasury, Bureau of Engraving and Printing (BEP) .048—Electronic Police Operations Command Reporting System.

[FR Doc. 2018-16439 Filed 7-31-18; 8:45 am]

BILLING CODE 4840-01-P